DEPARTMENT OF COMMERCE

National Oceanic and Atmospheric Administration

Agency Information Collection Activities; Submission to the Office of Management and Budget (OMB) for Review and Approval; Comment Request; National Marine Sanctuary Permits

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 20, 2021.

ADDRESSES: Interested persons are invited to submit written comments to Adrienne Thomas, NOAA PRA Officer, at Adrienne.thomas@noaa.gov. Please reference OMB Control Number 0648-0141 in the subject line of your comments. Do not submit Confidential Business Information or otherwise sensitive or protected information.

FOR FURTHER INFORMATION CONTACT: Requests for additional information or specific questions related to collection activities should be directed to Vicki Wedell, National Resource Protection and Permit Coordinator, National Oceanic and Atmospheric Administration, 1305 East-West Highway, Silver Spring, MD, 240-676-3805, and Vicki.Wedell@noaa.gov.

SUPPLEMENTARY INFORMATION:

I. Abstract

This request is for revision and extension of a currently approved information collection by the Office of National Marine Sanctuaries (ONMS). ONMS manages national marine sanctuaries pursuant to the purposes and policies of the National Marine Sanctuaries Act (NMSA, 16 U.S.C. 1431 et seq.).

National marine sanctuary regulations at 15 CFR part 922 list specific activities that are prohibited in national marine sanctuaries. These regulations also state that otherwise prohibited activities are permissible if a permit is issued by ONMS. Persons desiring a permit must submit an application, and anyone obtaining a permit is generally required to submit one or more reports on the activity allowed under the permit. The recordkeeping and reporting requirements at 15 CFR part 922 form the basis for this collection of information.

This information is required by ONMS to protect and manage sanctuary resources. The permit application collects information about the proposed activities, the methods proposed to be used, the potential effects to sanctuary resources, and information on the regulatory review criteria at 15 CFR part 922. ONMS uses this information to evaluate whether the proposed activities are consistent with the goals and objectives of the sanctuary and the intent of the NMSA.

Changes to this information collection include revisions to the permit application and instructions to improve clarity. The estimated number of permits issued per year also changed from 555 to 419. This is based on an estimated five additional permits from the designation of the Mallows Bay—Potomac River National Marine Sanctuary (84 FR 5073; Sept. 29, 2019) and a reduction of 141 permits per year because the Florida Keys National Marine Sanctuary is no longer issuing lionfish removal permits.

II. Method of Collection

Depending on the permit being requested, an application, reports, and telephone calls may be required from applicants. Applications and reports can be submitted via email, fax, or traditional mail. Applicants are encouraged to use electronic means to apply for permits and submit reports whenever possible.

III. Data

OMB Control Number: 0648-0141.

Form Number(s): None.

Type of Review: Regular submission (revision and extension of a currently approved information collection).

Affected Public: Business or other for-profit organizations; individuals or households; not-for-profit institutions; Federal government; state, local, or tribal government.

Estimated Number of Respondents: 419.

Estimated Time per Response: General permits, 1 hour and 30 minutes; special use permits, 8 hours; historical resources permits, 13 hours; baitfish permits, 5 minutes; permit amendments and certifications, 30 minutes; voluntary registrations, 15 minutes; appeals, 24 hours; Tortugas access permits, 6 minutes.

Estimated Total Annual Burden Hours: 2,047.

Estimated Total Annual Cost to Public: $1,095.00 in recordkeeping/reporting costs.

Respondent's Obligation: Required to obtain or retain benefits.

Legal Authority: 16 U.S.C. 1431 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-03364 Filed 2-18-21; 8:45 am]

BILLING CODE 3510-NK-P